DEPARTMENT OF THE INTERIOR

Bureau of Land Management

[ES-030-05-1320-EL, WVES-50556, WVES-50560]

Notice of Intent To Prepare a Land Use Analysis/Environmental Impact Statement; Coal Lease Applications WVES-50556 and WVES-50560, Wayne County, WV

AGENCY: Bureau of Land Management, Interior.

ACTION: Notice of intent.

SUMMARY: The Bureau of Land Management (BLM) has received two applications to lease a total of 13,089.55 acres of Federal coal at the East Lynn Lake project in Wayne County, West Virginia. The lease applications for mining the federal coal on these were applied under the provisions of 43 Code of Federal Regulations (CFR) 3425.1. The BLM will prepare a LUA/EIS prior to holding a competitive Federal coal lease sale. Both applicants are proposing to mine the coal by underground mining methods from existing mines they operate on adjacent private land. The lands being considered for lease border East Lynn Lake on portions of both its north and south shores, but no mining would occur directly beneath the lake itself. This notice, in accordance with Section 102(2)(C) of the National Environmental Policy Act (NEPA), announces the beginning of the review process and invites the public, other Federal Agencies, State and local governments to submit information on coal resource development potential and on resources which may be affected by coal development for lands within the analysis area. The BLM also asks that you suggest issues that should be considered in developing the LUA and include statements explaining why the land should or should not be considered for leasing.

DATES: The BLM will accept comments on or before August 15, 2005.

ADDRESSES: You may send written comments to Bureau of Land Management, Attn: John Romito, 901 Pine Street, Suite 201, Rolla, MO 65401. You may also submit electronic comments and other data to EastLynnLakeComments@blm.gov. See SUPPLEMENTARY INFORMATION for information regarding a public meeting during the comment period and a public hearing after the draft LUA/EIS is prepared. Members of the public may examine documents pertinent to this proposal by visiting the Rolla Office during its business hours (7:45 a.m. to 4:30 p.m.), Monday through Friday except holidays.

FOR FURTHER INFORMATION CONTACT: John Romito, Bureau of Land Management, 573-364-0204.

SUPPLEMENTARY INFORMATION: Argus Energy LLC (Argus) has submitted a coal LBA (WVES50556) to BLM for 7,624.60 acres bordering a portion of the southern shore of the East Lynn Lake Project in Wayne County, West Virginia. Rockspring Development (Rockspring) also submitted a coal LBA for 5,449.92 acres (WVES50560) that borders a portion of the north shore of the lake. East Lynn Lake is located approximately 25 miles south of Huntington, West Virginia and is managed by the U.S. Army Corps of Engineers (USACE) for flood control, recreation and wildlife.

The State of West Virginia does not use the Public Land Rectangular Survey system to legally describe land tracts within the state, but instead utilizes Metes and Bounds property description. Consequently, to avoid numerous pages of lengthy legal descriptions, the federal coal reserves encompassed by the LBAs are described below by referencing the USACE mineral-tract number the reserves fall within. It should be pointed out that referencing a mineral-tract number in the listing below, does not necessarily mean the entire mineral tract is under application. More detailed property descriptions are available in the case files located in the BLM office in Rolla, Mo.

Argus Energy, LBA WVES-50556

Mineral Tract Numbers—Tract Nos: 77M-14; 177M-12; 177M-11; 177M-1; 745M; 746M; 808; 840M; 843M; 846M; 1140M; 1140; 1301; 1313M; 1717M; 1718M; 1810M; 1811M; 1813M; 1813M; 2020M; 2321M; 2430M; 2431M; 2737 and 2737.

Approximately 7,639.63 in Wayne County, West Virginia

Rockspring Development, LBA WVES-50560

Mineral Tract Numbers—Tract Nos. 174M; 177M-2p; 177M-1; 184M; 376ME-2; 375M; 376ME-1; 377M; 378M; 380M; 381M; 382M; 384M; 386M; 390ME-1; 395M; 427M; 430M; 517A; 517B; 545M; 547M; 548M; 550M; 553M; 554M; 556M; 745M; 847M; 1450M; 1451M; 1452M; 1453M; 1717M and 1718M.

Approximately 5,449.92 in Wayne County, West Virginia

Argus proposes to mine the Federal coal in the lease application area by underground methods extending from two of their existing underground mines located on private land to the south of the application area. Rockspring would similarly access their application area from their existing underground mine located on private lands north of their application area. Argus is currently conducting exploratory drilling on their application area under exploration license WVES 50816. It is reasonable to expect that Rockspring may also wish to conduct exploratory drilling on their area of interest. It is also reasonable to expect that both companies may need to drill additional holes for mine planning purposes if leases were to be issued and mine plans approved.

BLM is provided the authority to lease Federal coal under the Mineral Leasing Act as defined under 43 CFR 3480.0-5(a)(25) and the 1999 Water Resource and Development Act for Federally owned coal at East Lynn Lake. The Office of Surface Mining (OSM) in cooperation with the State of West Virginia, issues Mine Permits under the Surface Mining Control and Reclamation Act (SMCRA). Additionally, as provided by 40 CFR 1501.6, the U.S. Army Corps of Engineers (USACE) and the Office of Surface Mining have been invited to participate as Cooperating Agencies in the proposed coal-leasing action.

This notice is issued pursuant to 40 CFR 1501.7, 43 CFR 1610.2(c) and 43 CFR 3420. BLM's planning effort will follow the procedures set forth in 43 CFR 1610. As provided by 43 CFR 3420.1-2, industry, State and local governments and the general public are requested to submit information regarding coal and other resources which may be affected by coal development within the leasing area.

Preliminary issues, subject to change as a result of public input, are (1) potential impacts of coal mining and development drilling on the surface and subsurface resources; and (2) consideration of restrictions on lease rights to protect surface resources.

Preliminary planning criteria developed to guide the preparation of the LUA/EIS include:

1. Land use planning and environmental analysis will be conducted in accordance with all applicable laws, regulations, executive orders and manuals.

2. Planning will be conducted for the Federal coal mineral estate only.

3. A mine plan scenario will be prepared for the Federal resources.

4. Resource data needed to assess the effects of coal mining and coal development drilling will be collected.

5. The planning team will work cooperatively with Federal, State and local governments and agencies, as well as groups, organizations and individuals.

6. In accordance with the Water Resource and Development Act of 1999, consent will not be required from the surface management agency should coal leasing be approved.

7. The LUA/EIS will identify mitigation measures designed to reduce or avoid potential impacts of coal leasing.

8. Other criteria as identified through the planning process.

The interdisciplinary team will consider the specific resources and uses identified in the 20 Unsuitability Criteria listed at 43 CFR part 3461 to the extent that they apply to underground mining. Screening of the Federal coal lands in the application areas through the Unsuitability Criteria will result in a determination as to which lands are (1) acceptable for further leasing consideration with standard stipulations or (2) acceptable for further leasing consideration with special stipulations or (3) are unacceptable for further consideration for leasing.

Lands acceptable for further leasing consideration after screening through the Unsuitability Criteria will be further screened for other resource values and uses that could be affected by lease issuance.

Public Participation: This notice initiates the National Environmental Policy Act (NEPA) public scoping process. The BLM will work collaboratively with interested parties to identify management decisions that are best to address national, regional and local needs and concerns. The public, businesses, and public entities are invited to participate in this LUA process by: (1) Commenting on the preliminary issues and planning criteria; (2) identifying other issues and planning criteria; and/or (3) submitting coal, other resource or land use information. For other resource information, participants are asked to identify the particular resource value, to provide the reason that the resource would conflict with coal development and provide a map (minimal scale 1:24,000) showing the location of the resource.

Comments or information may be submitted by mail or electronically to the addresses provided above.

Confidentiality: Individual respondents may request confidentiality. If you wish to withhold your name or street address from public review or disclosure under the Freedom of Information Act, you must state this prominently at the beginning of your written comments. Such requests will be honored to the extent allowed by the law. All submissions from businesses, organizations and individuals identifying themselves as representatives or officials of organizations or businesses will be available for public inspection in their entirety.

In addition to accepting written comments, BLM will also schedule a public meeting in Wayne, West Virginia before the end of the comment period. This meeting will provide another opportunity for you to identify issues or concerns about the proposal. The BLM will publish advance notice of the exact time and place of this meeting in local newspapers at least 15 days prior to the meeting. The BLM will also conduct a public hearing in accordance with 43 CFR 3420 and 3422.1 when the draft LUA/EIS is completed. This hearing will be announced through the Federal Register and a local newspaper at least 15 days prior to the hearing.

Michael D. Nedd,
State Director, Eastern States.

[FR Doc. 05-13767 Filed 7-13-05; 8:45 am]

BILLING CODE 4310-PN-P